ENVIRONMENTAL PROTECTION AGENCY

[EPA-HQ-OAR-2023-0314-0001; FRL-11733-01-OMS]

Agency Information Collection Activities; Submission to the Office of Management and Budget for Review and Approval; Comment Request; Indoor airPLUS Program (New)

AGENCY: Environmental Protection Agency (EPA).

ACTION: Notice.

SUMMARY: The Environmental Protection Agency (EPA) has submitted an information collection request (ICR), Indoor AirPlus Program (EPA ICR Number 2763.01, OMB Control Number 2060-NEW) to the Office of Management and Budget (OMB) for review and approval in accordance with the Paperwork Reduction Act. This is a request for approval of a new collection. Public comments were previously requested via the Federal Register on July 31, 2023, during a 60-day comment period. This notice allows for an additional 30 days for public comments.

DATES: Comments may be submitted on or before March 13, 2024.

ADDRESSES: Submit your comments, referencing Docket ID Number EPA-HQ-OAR-2023-0314 to EPA online using www.regulations.gov (our preferred method), by email to a-and-r-docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Peggy Bagnoli, Indoor Environments Division, Office of Radiation and Indoor Air 6609T, Environmental Protection Agency, 1200 Pennsylvania Ave. NW, Washington, DC 20460; telephone number: (202) 343-9398; fax number: (202) 343-2393; email address: Indoor_airPLUS@epa.gov.

SUPPLEMENTARY INFORMATION: This is a request for approval of a new collection. An agency may not conduct, or sponsor, and a person is not required to respond to a collection of information unless it displays a currently valid OMB control number.

Public comments were previously requested via the Federal Register on July 31, 2023, during a 60-day comment period (88 FR 16195). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Indoor AirPlus is aimed at forming public-private partnerships that help prevent various forms of indoor air pollution and their associated health risks. This ICR covers information collection activities under the EPA's newly revised Indoor AirPlus program. Indoor AirPlus is a voluntary certification labeling program that represents value-added marketability that home builders, verification companies, and oversight organizations can use to distinguish themselves from competition, while homeowners see a healthier and safer home with improved indoor air quality (IAQ) by requiring construction practices and product specifications that minimize exposure to airborne pollutants and contaminants.

Form numbers:

• A Partnership Agreement for Home Builder/Verification Organization/Home Certification Organizations (Voluntary).

○ 5900-662 Join Indoor AirPlus Partnership Agreement—Stand Alone Program_Form.docx.

○ 5900-663 Join Indoor AirPlus Partnership Agreement- Integrated with ES Form.docx.

○ 5900-669 Join Indoor AirPlus V2_Draft Certification System_LIVE.docx.

• Indoor AirPlus Verification Checklist/Home Certification Organizations Certification Process (Voluntary).

○ 5900-668 Verification of IAP Req Indoor AirPlus Fillable Verification Checklist.pdf.

• Indoor AirPlus Quarterly Reporting for Homebuilders/Raters (Voluntary).

○ 5900-667 Periodic Reporting_Indoor AirPlus Quarterly Form.xlsx.

• Leader Award Applications Builder/Affordable Builder/Rater (Voluntary).

○ 5900-664 Leader Award—Affordable Builder Application.pdf.

○ 5900-665 Leader Award—Builder Application.pdf.

○ 5900-666 Leader Award—Rater Application.pdf.

Respondents/affected entities: Respondents for this information collection request include Indoor AirPlus partners, including homebuilders and developers, verification organizations (raters and rating providers), and home certification organizations. The following is a list of Standard Industrial Classification (SIC) codes and corresponding North American Industry Classification System (NAICS) codes for industry segments which may be affected by information collections covered under this ICR for the Indoor AirPlus Program: Utilities (22), Construction (23), Retail Trade (44-45), Transportation and Warehousing (48-49), Finance and Insurance (52), Real Estate and Rental and Leasing (53), Professional, Scientific, and Technical Services (54), and Public Administration (92).

Respondent's obligation to respond: voluntary (Clean Air Act, § 103).

Estimated number of respondents: 566 new and 2,142 active participants (total).

Frequency of response: Once per year (on average).

Total estimated burden: 11,862 hours (per year). Burden is defined at 5 CFR 1320.03(b).

Total estimated cost: $1,204,447, which includes $0 annualized capital or operation & maintenance costs.

Changes in the estimates: This is a new ICR, no changes in burden currently applicable.

Courtney Kerwin,
Director, Information Engagement Division.

[FR Doc. 2024-02771 Filed 2-9-24; 8:45 am]

BILLING CODE 6560-50-P